Proclamation 8799 of April 9, 2012

National Former Prisoner of War Recognition Day, 2012

By the President of the United States of America

A Proclamation

For more than 200 years, members of our Armed Forces have upheld an oath to protect and defend. In times of war, generations have answered our country’s call with courage and valor, braving the peril of combat and pressing onward in the face of tremendous adversity. Their extraordinary service reflects our highest ideals, and their sacrifice will forever live on in our national memory. On National Former Prisoner of War Recognition Day, we pay solemn tribute to those patriots who gave their freedom to preserve our own.

Thousands of America’s sons and daughters have suffered unspeakably as captives in foreign lands. Many prisoners of war experienced physical torture and profound anguish, subjected to inhumane treatment and cut off from their comrades, their country, and their loved ones. Some would never return. Yet, in the direst circumstances, these service members demonstrated indomitable courage and unbreakable resolve. They stood fast for what they believed in, making immeasurable sacrifices for the millions they protected. At home, spouses, children, parents, and friends called upon that same spirit of perseverance to sustain them through long periods of prayer and uncertainty.

When he chronicled the experiences of our GIs during World War II, Ernie Pyle wrote that their world can never be known to the rest of us. Though the sacrifices they made and the burdens they bore may defy our full understanding, it is our moral obligation to keep faith with our men and women in uniform, our veterans, and their families—to honor their service through the support of a grateful Nation. Today, we recognize heroes who endured one of war’s most tragic costs. For them, and for all who have served, let us rededicate ourselves to fulfilling the sacred trust we share with all those who have worn the uniform of the United States of America.

NOW, THEREFORE, I, BARACK OBAMA, President of the United States of America, by virtue of the authority vested in me by the Constitution and the laws of the United States, do hereby proclaim April 9, 2012, as National Former Prisoner of War Recognition Day. I call upon all Americans to observe this day of remembrance by honoring all American prisoners of war, our service members, and our veterans. I also call upon Federal, State, and local government officials and organizations to observe this day with appropriate ceremonies and activities.

IN WITNESS WHEREOF, I have hereunto set my hand this ninth day of April, in the year of our Lord two thousand twelve, and of the Independence of the United States of America the two hundred and thirty-sixth.

[FR Doc. 2012-9019

Filed 4-11-12; 11:15 am]

Billing code 3295-F2-P